DEPARTMENT OF COMMERCE

National Oceanic and Atmospheric Administration

U. S. Integrated Ocean Observing System (IOOS®) Advisory Committee Public Meeting

AGENCY: U.S. Integrated Ocean Observing System (IOOS®), National Ocean Service (NOS), National Oceanic and Atmospheric Administration (NOAA), Department of Commerce.

ACTION: Notice of open meeting; opportunity for public comment.

SUMMARY: Notice is hereby given of a virtual meeting of the U. S. Integrated Ocean Observing System (IOOS®) Advisory Committee (Committee). The meeting is open to the public and an opportunity for oral and written comments will be provided.

DATES: The meeting will be held virtually on July 21, 2025 from 1 p.m. to 3 p.m. Eastern Daylight Time (EDT) and July 23, 2025 from 3 p.m. to 5 p.m. (EDT). Registration is required to attend; please register online at https://forms.gle/9yMK7MgQCgbTmJNJ7 or email Laura.Gewain@noaa.gov.

ADDRESSES: The meeting will be held virtually. To register for the meeting and/or submit public comments, use this link https://forms.gle/9yMK7MgQCgbTmJNJ7 or email Laura.Gewain@noaa.gov. Registration is required. See SUPPLEMENTARY INFORMATION for instructions and other information about public participation.

FOR FURTHER INFORMATION CONTACT: Krisa Arzayus, Designated Federal Official, U.S. IOOS Advisory Committee, U.S. IOOS Program, 240-533-9455, krisa.arzayus@noaa.gov or visit the U.S. IOOS Advisory Committee website at http://ioos.noaa.gov/community/u-s-ioos-advisory-committee/.

SUPPLEMENTARY INFORMATION:

I. Background

The Committee was established by the NOAA Administrator as directed by section 12304(d) of the Integrated Coastal and Ocean Observation System Act (the Act) as amended by Section 103 of the Coordinated Ocean Observations and Research Act of 2020 (COORA) (Public Law 116-271, Title I). 33 U.S.C. 3603(d). The Committee advises the NOAA Administrator and the Interagency Ocean Observation Committee (IOOC) on matters related to the responsibilities and authorities set forth in the Act and other appropriate matters as the Administrator, the Ocean Policy Committee described at 33 U.S.C. 3603(c)(1), and IOOC may refer to the Committee for review and advice. The charter and summaries of prior meetings can be found online at https://ioos.noaa.gov/community/u-s-ioos-advisory-committee/.

II. Matters to Be Considered

The meeting will focus on: (1) working sessions on proposed work plan topics and (2) updates from NOAA and key partners. The latest version of the agenda will be posted at http://ioos.noaa.gov/community/u-s-ioos-advisory-committee/. The times and the agenda topics described here are subject to change.

III. Public Comment Instructions

The meeting will be open to public participation (check agenda on website to confirm time). The Committee expects that public statements presented at its meetings will not be repetitive of previously submitted verbal or written statements. In general, each individual or group making a verbal presentation will be limited to a total time of three (3) minutes. Written comments should be received by the Designated Federal Official by July 11, 2025 11:59 p.m. EDT, to provide sufficient time for Committee review. Written comments received after July 11, 2025 11:50 p.m. EDT, will be distributed to the Committee, but may not be reviewed prior to the meeting date. To submit written comments, please fill out the brief form at https://forms.gle/9yMK7MgQCgbTmJNJ7 or email your comments and the organization/company affiliation you represent to Laura Gewain, Laura.Gewain@noaa.gov. All comments received are a part of the public record. All personally identifiable information (name, address, etc.), confidential business information, or otherwise sensitive information submitted voluntarily by the commenter will be publicly accessible. The written comment is considered the official comment and should include discussion of all points you wish to make. The Federal agencies will generally not consider comments or comment contents located outside of the primary submission (i.e., on the web, cloud, or other file sharing system). Comments that are not responsive or contain profanity, vulgarity, threats, or other inappropriate language will not be considered. This NOAA public meeting will be recorded for use in preparation of minutes. If you have a public comment, you acknowledge that you will be recorded and are aware you can opt out of the meeting. Participation in the meeting constitutes consent to the recording.

IV. Special Accommodations

These meetings are physically accessible to people with disabilities. Requests for sign language interpretation or other auxiliary aids should be directed to Krisa Arzayus, Designated Federal Official by phone (240-533-9455) or email (Krisa.Arzayus@noaa.gov) or to Laura Gewain (Laura.Gewain@noaa.gov) by July 7, 2025 11:59 p.m.

Authority: Integrated Coastal and Ocean Observation System Act, part of the Omnibus Public Land Management Act of 2009 (Public Law 111-11), and the Coordinated Ocean Observations and Research Act of 2020 (Public Law No: 116-271)

Jeffrey L. Payne,
Acting Director, U.S. IOOS Program, National Ocean Service, National Oceanic and Atmospheric Administration.

[FR Doc. 2025-12268 Filed 6-30-25; 8:45 am]

BILLING CODE 3510-NE-P